DEPARTMENT OF COMMERCE

National Oceanic and Atmospheric Administration

Proposed Information Collection; Comment Request; Pacific Islands Region Permit Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 15, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Walter Ikehara, (808) 725-5175, or Walter.Ikehara@noaa.gov.

SUPPLEMENTARY INFORMATION:

I. Abstract

This request is for extension of a current information collection.

Regulations at 50 CFR Part 665, Subpart F, require that a vessel must be registered to a valid federal fishing permit if it is used to fish with longline gear for Pacific pelagic management unit species (PMUS), land or transship longline caught PMUS, or receive longline caught PMUS from a longline vessel, within the Exclusive Economic Zone (EEZ) of United States (U.S.) islands in the central and western Pacific, or to fish with troll and handline gear for PMUS within the EEZ around each of the Pacific Remote Island Areas (PRIA).

Regulations at 50 CFR parts 665, Subparts D and E, require that the owner of a vessel used to fish for, land, or transship bottomfish management unit species (BMUS) using a large vessel (50 ft or longer) around Guam, or using a vessel within the EEZ around each of the PRIA, must register it to a valid federal fishing permit they hold.

Regulations at 50 CFR Part 665, Subparts B, C, D and E, require that a vessel used to fish for precious corals within the EEZ of U.S. islands in the central and western Pacific, must be registered to a valid federal fishing permit for a specific precious coral permit area.

This collection of information is needed for permit issuance, to identify actual or potential participants in the fishery, determine qualifications for permits, and to help measure the impacts of management controls on the participants in the fishery. The permit program is also an effective tool in the enforcement of fishery regulations and facilitates communication between the National Marine Fisheries Service (NMFS) and fishermen.

II. Method of Collection

Documents may be submitted via mail, fax, email or via Web-based application (National Permit System).

III. Data

OMB Control Number: 0648-0490.

Form Number: None.

Type of Review: Regular submission (extension of a current information collection).

Affected Public: Business or other for profit organizations; individuals or households.

Estimated Number of Respondents: 246.

Estimated Time per Response: Hawaii longline limited entry permit transfer, 1 hour; American Samoa longline limited entry permit renewal and additional permit application, 45 minutes; American Samoa longline permit transfer, 1 hour, 15 minutes; Main Hawaiian Islands longline prohibited area exemptions and permit appeals, 2 hours; all other permits, 30 minutes.

Estimated Total Annual Burden Hours: 145.

Estimated Total Annual Cost to Public: $8,800 (including $8,155 in processing fees).

IV. Request for Comments

Comments are invited on: (a) Whether the proposed collection of information is necessary for the proper performance of the functions of the agency, including whether the information has practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 11, 2014.
Gwellnar Banks,
Management Analyst, Office of the Chief Information Officer.

[FR Doc. 2014-16788 Filed 7-16-14; 8:45 am]

BILLING CODE 3510-22-P